DEPARTMENT OF ENERGY

Federal Energy Regulatory Commission

[Docket No. RP00-496-002]

Total Peaking Services, L.L.C.; Notice of Compliance Filing

September 26, 2000.

Take notice that on September 21, 2000, Total Peaking Services, L.L.C. (Total Peaking) tendered for filing various revised tariff sheets to delete several references to a Telephonic Bulletin Board, which were inadvertently not deleted after the company established a new Internet Web Site, to be effective August 15, 2000.

Total Peaking notes that the filing is being made to comply with the directions of the Director's letter dated September 12, 2000.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-25116 Filed 9-29-00; 8:45 am]

BILLING CODE 6717-01-M